DEPARTMENT OF TRANSPORTATION

Federal Aviation Administration

14 CFR Part 25

[Docket No. FAA-2001-9637; Notice No. 01-06]

RIN 2120-AG92

Fire Protection of Electrical System Components on Transport Category Airplanes

AGENCY: Federal Aviation Administration (FAA), DOT.

ACTION: Notice of proposed rulemaking.

SUMMARY: The Federal Aviation Administration proposes to amend the airworthiness standards for transport category airplanes concerning the protection of electrical system components. Adopting this proposal would eliminate regulatory differences between the airworthiness standards of the U.S. and the Joint Aviation Requirements of Europe, without affecting current industry design practices.

DATES: Send your comments on or before July 16, 2001.

ADDRESSES: Address your comments to Dockets Management System, U.S. Department of Transportation Dockets, Room Plaza 401, 400 Seventh Street SW., Washington, DC 20590-0001. You must identify the docket number, FAA-2001-9637, at the beginning of your comments, and you should submit two copies of your comments. If you wish to receive confirmation that the FAA has received your comments, please include a self-addressed, stamped postcard on which the following statement is made: “Comments to Docket No. FAA-2001-9637.” We will date-stamp the postcard and mail it back to you.

You also may submit comments electronically to the following Internet address: http://dms.dot.gov.

You may review the public docket containing comments to this proposed regulation at the Department of Transportation (DOT) Dockets Office, located on the plaza level of the Nassif Building at the above address. You may review the public docket in person at this address between 9 a.m. and 5 p.m., Monday through Friday, except Federal holidays. Also, you may review the public dockets on the Internet at http://dms.dot.gov.

FOR FURTHER INFORMATION CONTACT: Massoud Sadeghi, FAA, Airplane and Flight Crew Interface Branch, ANM-111, Transport Airplane Directorate, Aircraft Certification Service, 1601 Lind Avenue SW., Renton, WA 98055-4056; telephone 425-227-2117; facsimile 425-227-1320, e-mail massoud.sadeghi@faa.gov.

SUPPLEMENTARY INFORMATION:

How Do I Submit Comments to This NPRM?

Interested persons are invited to participate in the making of the proposed action by submitting such written data, views, or arguments, as they may desire. Comments relating to the environmental, energy, federalism, or economic impact that might result from adopting the proposals in this document are also invited. Substantive comments should be accompanied by cost estimates. Comments must identify the regulatory docket number and be submitted in duplicate to the DOT Rules Docket address specified above.

All comments received, as well as a report summarizing each substantive public contact with FAA personnel concerning this proposed rulemaking, will be filed in the docket. The docket is available for public inspection before and after the comment closing date.

We will consider all comments received on or before the closing date before taking action on this proposed rulemaking. Comments filed late will be considered as far as possible without incurring expense or delay. The proposals in this document may be changed in light of the comments received.

How Can I Obtain a Copy of This NPRM?

You can get an electronic copy using the Internet by taking the following steps:

(1) Go to the search function of the Department of Transportation's electronic Docket Management System (DMS) web page (http://dms.dot.gov/search).

(2) On the search page type in the last four digits of the Docket number shown at the beginning of this notice. Click on “search.”

(3) On the next page, which contains the Docket summary information for the Docket you selected, click on the document number of the item you wish to view.

You can also get an electronic copy using the Internet through the Office of Rulemaking's web page at http://www.faa.gov/avr/armhome.htm or the Federal Register's web page at http://www.access.gpo.gov/su_docs/aces/aces140.html.

You can also get a copy by submitting a request to the Federal Aviation Administration, Office of Rulemaking, ARM-1, 800 Independence Avenue SW., Washington, DC 20591, or by calling (202) 267-9680. Make sure to identify the docket number, notice number, or amendment number of this rulemaking.

Background

What Are the Relevant Airworthiness Standards in the United States?

In the United States, the airworthiness standards for type certification of transport category airplanes are contained in Title 14, Code of Federal Regulations (CFR) part 25. Manufacturers of transport category airplanes must show that each airplane they produce of a different type design complies with the appropriate part 25 standards. These standards apply to:

• Airplanes manufactured within the U.S. for use by U.S.-registered operators, and

• Airplanes manufactured in other countries and imported to the U.S. under a bilateral airworthiness agreement.

What Are the Relevant Airworthiness Standards in Europe?

In Europe, the airworthiness standards for type certification of transport category airplanes are contained in Joint Aviation Requirements (JAR)-25, which are based on part 25. These were developed by the Joint Aviation Authorities (JAA) of Europe to provide a common set of airworthiness standards within the European aviation community. Twenty-three European countries accept airplanes type certificated to the JAR-25 standards, including airplanes manufactured in the U.S. that are type certificated to JAR-25 standards for export to Europe.

What Is “Harmonization” and How Did It Start?

Although part 25 and JAR-25 are very similar, they are not identical in every respect. When airplanes are type certificated to both sets of standards, the differences between part 25 and JAR-25 can result in substantial added costs to manufacturers and operators. These additional costs, however, often do not bring about an increase in safety. In many cases, part 25 and JAR-25 may contain different requirements to accomplish the same safety intent. Consequently, manufacturers are usually burdened with meeting the requirements of both sets of standards, although the level of safety is not increased correspondingly.

Recognizing that a common set of standards would not only benefit the aviation industry economically, but also maintain the necessary high level of safety, the FAA and the JAA began an effort in 1988 to “harmonize” their respective aviation standards. The goal of the harmonization effort is to ensure that:

• Where possible, standards do not require domestic and foreign parties to manufacture or operate to different standards for each country involved; and

• The standards adopted are mutually acceptable to the FAA and the foreign aviation authorities.

The FAA and JAA have identified a number of significant regulatory differences (SRD) between the words of part 25 and JAR-25. Both the FAA and the JAA consider “harmonization” of the two sets of standards a high priority.

What Is ARAC and What Role Does It Play in Harmonization?

After initiating the first steps towards harmonization, the FAA and JAA soon realized that traditional methods of rulemaking and accommodating different administrative procedures was neither sufficient nor adequate to make appreciable progress towards fulfilling the goal of harmonization. The FAA then identified the Aviation Rulemaking Advisory Committee (ARAC) as an ideal vehicle for assisting in resolving harmonization issues, and, in 1992, the FAA tasked ARAC to undertake the entire harmonization effort.

The FAA had formally established ARAC in 1991 (56 FR 2190, January 22, 1991), to provide advice and recommendations concerning the full range of the FAA's safety-related rulemaking activity. The FAA sought this advice to develop better rules in less overall time and using fewer FAA resources than previously needed. The committee provides the FAA firsthand information and insight from interested parties regarding potential new rules or revisions of existing rules.

There are 64 member organizations on the committee, representing a wide range of interests within the aviation community. Meetings of the committee are open to the public, except as authorized by section 10(d) of the Federal Advisory Committee Act.

The ARAC establishes working groups to develop recommendations for resolving specific airworthiness issues. Tasks assigned to working groups are published in the Federal Register. Although working group meetings are not generally open to the public, the FAA solicits participation in working groups from interested members of the public who possess knowledge or experience in the task areas. Working groups report directly to the ARAC, and the ARAC must accept a working group proposal before ARAC presents the proposal to the FAA as an advisory committee recommendation.

The activities of the ARAC will not, however, circumvent the public rulemaking procedures; nor is the FAA limited to the rule language “recommended” by ARAC. If the FAA accepts an ARAC recommendation, the agency proceeds with the normal public rulemaking procedures. Any ARAC participation in a rulemaking package is fully disclosed in the public docket.

What Is the Status of the Harmonization Effort Today?

Despite the work that ARAC has undertaken to address harmonization, there remain a large number of regulatory differences between part 25 and JAR-25. The current harmonization process is extremely costly and time-consuming for industry, the FAA, and the JAA. Industry has expressed a strong desire to conclude the harmonization program as quickly as possible to alleviate the drain on their resources and to finally establish one acceptable set of standards.

Recently, representatives of the aviation industry [including Aerospace Industries Association of America, Inc. (AIA), General Aviation Manufacturers Association (GAMA), and European Association of Aerospace Industries (AECMA)] proposed an accelerated process to reach harmonization.

What Is the “Fast Track Harmonization Program”?

In light of a general agreement among the affected industries and authorities to expedite the harmonization program, the FAA and JAA in March 1999 agreed upon a method to achieve these goals. This method, which the FAA has titled “The Fast Track Harmonization Program,” is aimed at expediting the rulemaking process for harmonizing not only the 42 standards that are currently tasked to ARAC for harmonization, but approximately 80 additional standards for part 25 airplanes.

The FAA initiated the Fast Track program on November 26, 1999 (64 FR 66522). This program involves grouping all of the standards needing harmonization into three categories:

Category 1: Envelope

For these standards, parallel part 25 and JAR-25 standards would be compared, and harmonization would be reached by accepting the more stringent of the two standards. Thus, the more stringent requirement of one standard would be “enveloped” into the other standard. In some cases, it may be necessary to incorporate parts of both the part 25 and JAR standard to achieve the final, more stringent standard. (This may necessitate that each authority revises its current standard to incorporate more stringent provisions of the other.)

Category 2: Completed or Near Complete

For these standards, ARAC has reached, or has nearly reached, technical agreement or consensus on the new wording of the proposed harmonized standards.

Category 3: Harmonize

For these standards, ARAC is not near technical agreement on harmonization, and the parallel part 25 and JAR-25 standards cannot be “enveloped” (as described under Category 1) for reasons of safety or unacceptability. A standard developed under Category 3 would be mutually acceptable to the FAA and JAA, with a consistent means of compliance.

Further details on the Fast Track Program can be found in the tasking statement (64 FR 66522, November 26, 1999) and the first NPRM published under this program, Fire Protection Requirements for Powerplant Installations on Transport Category Airplanes (65 FR 36978, June 12, 2000).

Under this program, the FAA provides ARAC with an opportunity to review, discuss, and comment on the FAA's draft NPRM. In the case of this rulemaking, ARAC did not choose to review the draft NPRM prior to its publication.

Discussion of the Proposal

How Does This Proposed Regulation Relate to “Fast Track”?

This proposed regulation results from the recommendations of ARAC submitted under the FAA's Fast Track Harmonization Program. In this NPRM, the FAA proposes to amend § 25.869, concerning fire protection of electrical systems on transport category airplanes. This project has been identified as a Category 1 project under the Fast Track program.

What Is the Underlying Safety Issue Addressed by the Current Standards?

Section 25.869(a) of 14 CFR, and the parallel European standard JAR-25.869(a), address the design standards for protecting the components of electrical systems from fire. The standards provide specific standards that must be met, depending on the location of the components and the type of power cables.

What Are the Current 14 CFR and JAR Standards?

The current text of 14 CFR 25.869(a) (amendment 25-72, 55 FR 29784, July 20, 1990) is:

(a) Electrical system components:

(1) Components of the electrical system must meet the applicable fire and smoke protection requirements of §§ 25.831(c) and 25.863.

(2) Electrical cables, terminals, and equipment in designated fire zones, that are used during emergency procedures, must be at least fire resistant.

(3) Main power cables (including generator cables) in the fuselage must be designed to allow a reasonable degree of deformation and stretching without failure and must be—

(i) Isolated from flammable fluid lines; or

(ii) Shrouded by means of electrically insulated, flexible conduit, or equivalent, which is in addition to the normal cable insulation.

(4) Insulation on electrical wire and electrical cable installed in any area of the fuselage must be self-extinguishing when tested in accordance with the applicable portions of part I, appendix F of this part.

The current text of JAR-25.869(a) (Change 14, Orange Paper 96/1) is:

(a) Electrical system components:

(1) Components of the electrical system must meet the applicable fire and smoke protection requirements of JAR 25.831(c) and JAR 25.863. (See ACJ 25.869 (a)(1).)

(2) Electrical cables, terminals, and equipment in designated fire zones, that are used during emergency procedures, must be at least fire resistant.

(3) Main power cables (including generator cables) in the fuselage must be designed to allow a reasonable degree of deformation and stretching without failure and must be—

(i) Isolated from flammable fluid lines; or

(ii) Shrouded by means of electrically insulated, flexible conduit, or equivalent, which is in addition to the normal cable insulation.

(4) Insulation on electrical wire and electrical cable installed in any area of the aeroplane must be self-extinguishing when tested in accordance with the applicable portions of Part I, Appendix F.

What Are the Differences in the Standards and What Do Those Differences Result In?

The current text of § 25.869(a)(4) states that insulation on electrical wire and cables installed in any part of the fuselage must be self-extinguishing. The parallel JAR-25.869(a)(4) states that insulation on electrical wire and cables installed in any part of the airplane must be self-extinguishing. Thus, the JAR is considered the more stringent of the standards because it requires that the self-extinguishment standard be applied to electrical systems installed throughout the airplane (including engines), not just in the fuselage.

The technical need and accepted industry practice is that all wiring installed in the airframe and engines (i.e., not just the wiring in the fuselage), is self-extinguishing.

What, if Any, Are the Differences in the Means of Compliance?

To meet the JAR standards, and ensure that their airplanes are certificated to operate in Europe, U.S. manufacturers have designed the means for protecting electrical system components in accordance with the JAR requirements. Doing so, meets and surpasses the level of safety currently required by § 25.869(a) of 14 CFR.

As for the means of compliance, the JAA has issued specific advisory material related to a means of complying with 25.869(a)(1). This material is found in Advisory Circular Joint (ACJ) 25.869, “Electrical System Fire and Smoke Protection (Interpretative Material and Acceptable Means of Compliance) [See JAR 25.869].” The document provides the following guidance:

These requirements, and those of JAR 25.863 applicable to electrical equipment, may be satisfied by the following:

1. Electrical components in regions immediately behind firewalls and in engine pod attachment structures should be of such materials and at such a distance from the firewall that they will not suffer damage that could hazard the aeroplane if the surface of the firewall adjacent to the fire is heated to 1100 °C for 15 minutes.

2. Electrical equipment should be so constructed and/or installed that in the event of failure, no hazardous quantities of toxic or noxious (e.g. smoke) products will be distributed in the crew or passenger compartments.

3. Electrical equipment, which may come into contact with flammable vapours should be so designed and installed as to minimise the risk of the vapours exploding under both normal and fault conditions. This can be satisfied by meeting the Explosion Proofness Standards of draft ISO document TC20/SC5/N.43, dated 1974.

The FAA has no advisory material related to the current standards.

What Is the Proposed Action?

The FAA proposes to revise § 25.869(a) to adopt the more stringent language in the parallel JAR 25.869(a). This proposed requirement is in line with current industry practices and in concert with the FAA's objectives for the Fast Track Harmonization Program.

How Does This Proposed Standard Address the Underlying Safety Issue?

The proposed action would continue to address the safety issue by ensuring the fire protection of electrical system components on transport category airplanes.

What Is the Effect of the Proposed Standard Relative to the Current Regulations?

The proposed design requirements of revised § 25.869(a) would be expanded to apply not only to electrical system components in the fuselage, but throughout the airplane (including its engines as well). In effect, the proposed standard would maintain the current level of safety because U.S. manufacturers are already complying with it.

What Is the Effect of the Proposed Standard Relative to Current Industry Practice?

The effect of the proposed standard on industry practices would be minimal. In current practice, U.S. manufacturers are required to comply with the more stringent JAR requirements if they plan to sell their airplanes overseas. Because the proposed standard is currently being followed, the same level of safety will be maintained.

What Other Options Have Been Considered and Why Were They Not Selected?

One option considered was for the JAA to adopt unilaterally the standards of 14 CFR part 25. However, because § 25.869(a) is “less stringent” than the JAR, this could potentially mean adopting a lower level of safety. Additionally, it would not meet the objectives of the Fast Track Harmonization Program to harmonize the requirements of part 25 and the parallel requirements of JAR-25, while maintaining at least the same level of safety as in the current regulations.

Who Would Be Affected by the Proposed Change?

The proposed revised standard would affect U.S. manufacturers of transport category airplanes and, possibly, manufacturers of electrical systems installed on those airplanes. However, the FAA anticipates that the impact to the affected entities would be minimal because, in most cases, manufacturers are already complying with the more stringent standards as a means of obtaining joint (FAA and JAA) certification of their airplanes.

Is Existing FAA Advisory Material Adequate?

There is no current FAA advisory material related to the proposed standard. However, the FAA has developed a proposed Advisory Circular (AC) 25.869-1X, “Electric System Fire and Smoke Protection.” It contains guidance on this subject, and includes, with some modification, the material currently in the JAA's ACJ 25.869, referred to previously. The availability of the proposed AC is announced elsewhere in this Federal Register.

What Regulatory Analyses and Assessments Has the FAA Conducted?

Regulatory Evaluation Summary

Proposed changes to Federal regulations must undergo several economic analyses. First, Executive Order 12866 directs that each Federal agency shall propose or adopt a regulation only upon a reasoned determination that the benefits of the intended regulation justify its costs. Second, the Regulatory Flexibility Act of 1980 requires agencies to analyze the economic effect of regulatory changes on small entities. Third, the Trade Agreements Act (19 U.S.C. section 2531-2533) prohibits agencies from setting standards that create unnecessary obstacles to the foreign commerce of the United States. In developing U.S. standards, this Trade Act also requires the consideration of international standards and, where appropriate, that they be the basis of U.S. standards. And fourth, the Unfunded Mandates Reform Act of 1995 requires agencies to prepare a written assessment of the costs, benefits, and other effects of proposed or final rules that include a Federal mandate likely to result in the expenditure by State, local, or tribal governments, in the aggregate, or by the private sector of $100 million or more annually (adjusted for inflation).

The FAA has determined that this proposal has no substantial costs, and that it is not “a significant regulatory action” as defined in Executive Order 12866, nor “significant” as defined in DOT's Regulatory Policies and Procedures. Further, this proposed rule would not have a significant economic impact on a substantial number of small entities, would reduce barriers to international trade, and would not impose an Unfunded Mandate on state, local, or tribal governments, or on the private sector.

The DOT Order 2100.5 prescribes policies and procedures for simplification, analysis, and review of regulations. If it is determined that the expected impact is so minimal that the proposed rule does not warrant a full evaluation, a statement to that effect and the basis for it is included in the proposed regulation. Accordingly, the FAA has determined that the expected impact of this proposed rule is so minimal that the proposed rule does not warrant a full evaluation. We provide the basis for this determination as follows:

Currently, airplane manufacturers must satisfy both part 25 and the European JAR-25 standards to certificate transport category aircraft in both the United States and Europe. Meeting two sets of certification requirements raises the cost of developing a new transport category airplane often with no increase in safety. In the interest of fostering international trade, lowering the cost of aircraft development, and making the certification process more efficient, the FAA, JAA, and aircraft manufacturers have been working to create, to the maximum possible extent, a single set of certification requirements accepted in both the United States and Europe. As explained in detail previously, these efforts are referred to as “harmonization.”

In this NPRM, the FAA proposes to amend its regulations concerning airworthiness standards for transport category airplanes, as regards fire protection of airplane systems.

U.S. manufacturers of transport category airplanes already comply to a large extent with the requirements of JAR 25.869(a) because it is substantially identical to § 25.869(a). Of the two minor differences between the rules, one is that the JAA rule specifically applies to the airplane, while the FAA rule specifically applies to the fuselage. Because it is the ongoing common practice of U.S. manufacturers to use the same wiring that is specified in terms of materials and installation by both § 25.869(a) and JAR 25.869(a) throughout the entire airplane, and not only in the fuselage, the first difference would have no economic impact on U.S. manufacturers.

The second minor difference is that advisory material (ACJ 25.869), which is specifically referenced in JAR 25.869(a), has no FAA counterpart. This harmonization action would include the adoption, with modification, of this JAA advisory material into the body of FAA advisory material. In their report, the ARAC Working Group set forth the text of the proposed advisory material. Toward this evaluation, the group provided the information that this new advice would be so sufficiently in line with current industry practices that, in following it, U.S. manufacturers would encounter no practical change in the procedures by which they already comply with the requirements of § 25.869(a).

Finally, because this proposed new material is advisory and not regulatory, no cost or benefit resulting from it could be considered the economic impact of a proposed regulation.

The FAA expects that this proposed rule would result in benefits in the form of cost savings received by affected manufacturers because they would be able to effect compliance with both FAA and JAA requirements in a simpler and more direct fashion.

Compliance with one of these harmonized rules, FAA or JAA, would mean compliance with the other. The FAA has not attempted to quantify the benefits from cost savings that may accrue because of this proposed rule beyond noting that, while any such savings are expected to be minimal, they are part of a potentially large savings from the harmonization program. The FAA also expects that the existing level of safety will be maintained.

Because the effect of this proposed regulatory change would be to codify ongoing common manufacturing practice, no consequent substantive change—either in practice or in the cost of compliance—would result. Thus, the FAA expects that any additional cost associated with compliance with this proposal would be negligible.

The FAA concludes that, because there is agreement among potentially affected airplane manufacturers that the economic impact of this proposal would be at most minimal, further analysis is not required. The FAA requests that those who believe this action would result in a cost increase provide to the Docket their basis for such a belief.

Initial Regulatory Flexibility Determination

The Regulatory Flexibility Act (RFA) of 1980, 50 U.S.C. 601-612, as amended, establishes “as a principle of regulatory issuance that agencies shall endeavor, consistent with the objective of the rule and of applicable statutes, to fit regulatory and informational requirements to the scale of the business, organizations, and governmental jurisdictions subject to regulation.” To achieve that principle, the RFA requires agencies to solicit and consider flexible regulatory proposals and to explain the rationale for their actions.

Agencies must perform a review to determine whether a proposed or final rule will have a significant impact on a substantial number of small entities. If the determination is that the rule will, the Agency must prepare a regulatory flexibility analysis as described in the RFA.

However, if an agency determines that a proposed or final rule is not expected to have a significant economic impact on a substantial number of small entities, section 605(b) of the RFA provides that the head of the agency may so certify and a regulatory flexibility analysis is not required. The certification must include a statement providing the factual basis for this determination, and the reasoning should be clear.

The FAA considers that this proposed rule would not have a significant impact on a substantial number of small entities for two reasons:

First, the net effect of the proposed rule is minimum regulatory cost relief. The proposed rule would require that new transport category aircraft manufacturers meet just one certification requirement, rather than different standards for the United States and Europe. Airplane manufacturers already meet or expect to meet this standard as well as the existing 14 CFR part 25 requirement.

Second, all U.S. transport-aircraft category manufacturers exceed the Small Business Administration small-entity criteria of 1,500 employees for aircraft manufacturers. The current U.S. part 25 airplane manufacturers include: Boeing, Cessna Aircraft, Gulfstream Aerospace, Learjet (owned by Bombardier), Lockheed Martin, McDonnell Douglas (a wholly-owned subsidiary of The Boeing Company), Raytheon Aircraft, and Sabreliner Corporation.

Given that this proposed rule is minimally cost-relieving and that there are no small entity manufacturers of part 25 airplanes, the FAA certifies that this proposed rule would not have a significant impact on a substantial number of small entities.

Initial International Trade Impact Assessment

The Trade Agreement Act of 1979 prohibits Federal agencies from engaging in any standards or related activities that create unnecessary obstacles to the foreign commerce of the United States. Legitimate domestic objectives, such as safety, are not considered unnecessary obstacles. The statute also requires consideration of international standards and, where appropriate, that they be the basis for U.S. standards. In addition, consistent with the Administration's belief in the general superiority and desirability of free trade, it is the policy of the Administration to remove or diminish to the extent feasible, barriers to international trade, including both barriers affecting the export of American goods and services to foreign countries and barriers affecting the import of foreign goods and services into the United States.

In accordance with the above statute and policy, the FAA has assessed the potential effect of the proposed rule and has determined that it supports the Administration's free trade policy because this rule would use European international standards as the basis for U.S. standards.

Unfunded Mandates Reform Act

Title II of the Unfunded Mandates Reform Act of 1995 (the Act), codified in 2 U.S.C. 1532-1538, enacted as Public Law 104-4 on March 22, 1995, requires each Federal agency, to the extent permitted by law, to prepare a written assessment of the effects of any Federal mandate in a proposed or final agency rule that may result in the expenditure by State, local, and tribal governments, in the aggregate, or by the private sector, of $100 million or more (adjusted annually for inflation) in any one year.

This proposed rule does not contain a Federal intergovernmental or private sector mandate that exceeds $100 million in any year; therefore, the requirements of the Act do not apply.

What Other Assessments Has the FAA Conducted?

Executive Order 13132, Federalism

The FAA has analyzed this proposed rule and the principles and criteria of Executive Order 13132, Federalism. We have determined that this action would not have a substantial direct effect on the States, on the relationship between the national Government and the States, or on the distribution of power and responsibilities among the various levels of government. Therefore, we have determined that this NPRM would not have federalism implications.

Paperwork Reduction Act

The Paperwork Reduction Act of 1995 (44 U.S.C. 3507(d)) requires that the FAA consider the impact of paperwork and other information collection burdens imposed on the public. We have determined that there are no new information collection requirements associated with this proposed rule.

International Compatibility

In keeping with U.S. obligations under the Convention on International Civil Aviation, it is FAA policy to comply with International Civil Aviation Organization (ICAO) Standards and Recommended Practices to the maximum extent practicable. We have determined that there are no ICAO Standards and Recommended Practices that correspond to this proposed regulation.

Environmental Analysis

FAA Order 1050.1D defines FAA actions that may be categorically excluded from preparation of a National Environmental Policy Act (NEPA) environmental assessment or environmental impact statement. In accordance with FAA Order 1050.1D, appendix 4, paragraph 4(j), this rulemaking qualifies for a categorical exclusion.

Energy Impact

The energy impact of the proposed rule has been assessed in accordance with the Energy Policy and Conservation Act (EPCA) and Public Law 94-163, as amended (43 U.S.C. 6362), and FAA Order 1053.1. It has been determined that it is not a major regulatory action under the provisions of the EPCA.

Regulations Affecting Intrastate Aviation in Alaska

Section 1205 of the FAA Reauthorization Act of 1996 (110 Stat. 3213) requires the Administrator, when modifying regulations in Title 14 of the CFR in a manner affecting intrastate aviation in Alaska, to consider the extent to which Alaska is not served by transportation modes other than aviation, and to establish such regulatory distinctions as he or she considers appropriate. Because this proposed rule would apply to the certification of future designs of transport category airplanes and their subsequent operation, it could, if adopted, affect intrastate aviation in Alaska. The FAA therefore specifically requests comments on whether there is justification for applying the proposed rule differently to intrastate operations in Alaska.

Plain Language

In response to the June 1, 1998, Presidential memorandum regarding the issue of plain language, the FAA re-examined the writing style currently used in the development of regulations. The memorandum requires Federal agencies to communicate clearly with the public. We are interested in your comments on whether the style of this document is clear, and in any other suggestions you might have to improve the clarity of FAA communications that affect you. You can get more information about the Presidential memorandum and the plain language initiative at http://www.plainlanguage.gov.

List of Subjects in 14 CFR Part 25

Aircraft, Aviation safety, Reporting and recordkeeping requirements, Safety, Transportation.

The Proposed Amendment

In consideration of the foregoing, the Federal Aviation Administration proposes to amend part 25 of Title 14, Code of Federal Regulations, as follows:

PART 25—AIRWORTHINESS STANDARDS: TRANSPORT CATEGORY AIRPLANES

1. The authority citation for Part 25 continues to read as follows:

Authority: 49 U.S.C. 106(g), 40113, 44701, 44702, and 44704.

2. Amend section 25.869 by revising paragraph (a)(4) to read as follows:

§ 25.869 Fire protection: systems.

(a) * * *

(4) Insulation on electrical wire and electrical cable installed in any area of the airplane must be self-extinguishing when tested in accordance with the applicable portions of part I, appendix F of this part.

* * * * *

Issued in Renton, Washington, on May 3, 2001.
Lirio Liu Nelson,
Acting Manager, Transport Airplane Directorate, Aircraft Certification Service.

[FR Doc. 01-12100 Filed 5-14-01; 8:45 am]

BILLING CODE 4910-13-P